DEPARTMENT OF ENERGY

Federal Energy Regulatory Commission

[Project Nos. 12615-001; 13528-000]

Soule Hydro, LLC; Notice of Draft License Application and Preliminary Draft Environmental Assessment (PDEA) and Request for Preliminary Terms and Conditions

Take notice that the following hydroelectric application has been filed with the Commission and is available for public inspection.

a. Type of Application: Major Unconstructed Project.

b. Project No.: 12615-001; 13528-000.

c. Date Filed: February 3, 2011.

d. Applicant: Soule Hydro, LLC.

e. Name of Project: Soule River Hydroelectric Project.

f. Location: On the Soule River, approximately nine miles southwest of the community of Hyder, Alaska. The project would occupy 1,257 acres of federal lands within the Tongass National Forest, administered by the U.S. Forest Service.

g. Filed Pursuant to: Federal Power Act 16 USC 791(a)—825(r).

h. Applicant Contact: Glen D. Martin, C/O Alaska Power & Telephone Company, P.O. Box 3222, Port Townsend, WA 98368, (360) 385-1733 x 122.

i. FERC Contact: Matt Cutlip, (503) 552-2762, matt.cutlip@ferc.gov.

j. Status of Project: With this notice the Commission is soliciting (1) preliminary terms, conditions, and recommendations on the Preliminary Draft Environmental Assessment (DEA), and (2) comments on the Draft License Application.

k. Deadline for filing: May 2, 2011.

All comments on the Preliminary DEA and Draft License Application should be sent to the addresses noted above in Item (h), and filed with FERC. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

All comments must include the project name and number and bear the heading Preliminary Comments, Preliminary Recommendations, Preliminary Terms and Conditions, or Preliminary Prescriptions.

l. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via e-mail of new filings and issuances related to this or other pending projects. For assistance, contact FERC Online Support.

Soule Hydro, LLC has mailed a copy of the Preliminary DEA and Draft License Application to interested entities and parties. Copies of these documents are available for review at AP&T Wireless, Inc., 4033 Tongass Avenue, Suite 100, Ketchikan, Alaska 99901, or by calling (360) 385-1733 x 122 or by e-mailing glen.m@aptalaska.com.

m. With this notice, we are initiating consultation with the Alaska State Historic Preservation Officer as required by Section 106, National Historic Preservation Act, and the regulations of the Advisory Council on Historic Preservation, 36 CFR 800.4.

Dated: February 10, 2011.
Kimberly D. Bose,
Secretary.

[FR Doc. 2011-3619 Filed 2-16-11; 8:45 am]

BILLING CODE 6717-01-P